OFFICE OF THE UNITED STATES TRADE REPRESENTATIVE

Notice of Cancellation of Meeting of the Chairs of the Industry Trade Advisory Committee (ITACs)

AGENCY: Office of the United States Trade Representative.

ACTION: Notice of meeting cancellation.

SUMMARY: A notice was published in the Federal Register dated September 7, 2010, Volume 75, No. 172, Page 54416, announcing a meeting of the Industry Trade Advisory Committee Chairs (ITACs), scheduled for September 17, 2010, from 10 a.m. to 12 noon. The meeting was to be closed to the public from 10 a.m. to 10:45 a.m. and open to the public from 11 a.m. to 12 noon. However, the meeting has been postponed. The new time and additional details will be provided in a later Federal Register announcement.

FOR FURTHER INFORMATION CONTACT: Ingrid Mitchem, DFO at (202) 482-3269, Department of Commerce, 14th Street and Constitution Avenue, NW., Washington, DC.

Myesha Ward,
Assistant U.S. Trade Representative for Intergovernmental Affairs and Public Liaison.

[FR Doc. 2010-23146 Filed 9-15-10; 8:45 am]

BILLING CODE 3190-W0-P